FEDERAL COMMUNICATIONS COMMISSION

47 CFR Parts 21 and 74

[MM Docket 97-217, DA 00-99]

MDS and ITFS Two-Way Transmissions

AGENCY: Federal Communications Commission.

ACTION: Petitions for reconsideration.

SUMMARY: This item gives notice of the filing of petitions for reconsideration and sets out the dates for oppositions and replies to those oppositions.

DATES: Oppositions to the petitions for reconsideration are due February 10, 2000. Replies to oppositions are due February 22, 2000.

FOR FURTHER INFORMATION CONTACT: Dave Roberts (202) 418-1600, Video Services Division, Mass Media Bureau.

SUPPLEMENTARY INFORMATION: The Commission has received six petitions for further reconsideration of its Report and Order on Reconsideration, MM Docket, 97-217, 64 FR 63727. The petitions were filed by: Wireless Cable Association International, et al.; the Catholic Television Network; BellSouth; the Archdiocese of Los Angeles; IPWireless, Inc.; and the National ITFS Association. In the Report and Order on Reconsideration, the Commission made changes to the rules adopted in previous order which enabled licensees in the Multipoint Distribution Service (“MDS”) and Instructional Television Fixed Service (“ITFS”) to engage in fixed two-way transmissions. The petitioners seek further changes. The full text of the petitions for further reconsideration are available for inspection and copying during normal business hours in the FCC Reference Room, Room CY-A257, Portals II, 445 12th Street, SW, Washington, DC, and also may be purchased from the Commission's copy contractor, International Transcription Services, Inc. (“ITS”), Portals II, 445 12th Street, SW Room CY-B402, Washington, DC 20554.

List of Subjects

47 CFR Part 21

Communications common carriers, Communications equipment, Reporting and recordkeeping requirements, Television.

47 CFR Part 74

Communications equipment, Education, Reporting and Recordkeeping requirements, Television.

Federal Communications Commission.
Magalie Román Salas,
Secretary.

[FR Doc. 00-1797 Filed 1-25-00; 8:45 am]

BILLING CODE 6712-01-P